DEPARTMENT OF DEFENSE

Department of the Army

Availability of U.S. Patents for Non-Exclusive, Exclusive, or Partially-Exclusive Licensing

AGENCY: Department of the Army, DoD.

ACTION: Notice.

SUMMARY: In accordance with 37 CFR 404.6, announcement is made of the availability of the following U.S. patent for non-exclusive, partially exclusive or exclusive licensing. The listed patent has been assigned to the United States of America as represented by the Secretary of the Army, Washington, DC.

This patent covers a wide variety of technical arts including: The detection and tracking of moving targets in a given video input stream for surveillance and reconnaissance purposes.

Under the authority of Section 11(a) of the Federal Technology Transfer Act of 1986 (Pub. L. 99-502) and Section 207 of Title 35, United States Code, the Department of the Army as represented by the U.S. Army Research Laboratory wish to license the U.S. patent listed below in a non-exclusive, exclusive or partially exclusive manner to any party interested in manufacturing, using, and/or selling devices or processes covered by this patent.

Title: Moving Target Indication Algorithm for Video Surveillance Applications.

Inventors: Alex Chan.

Patent Number: Provisional Application, Registration No. 39,612.

Issued Date: Filed September 13, 2004.

FOR FURTHER INFORMATION CONTACT: Norma Cammarata, Technology Transfer Office, AMSRD-ARL-DP-T, Army Research Laboratory, Adelphi, MD 20783-1197, tel: (301) 394-2952, fax: (301) 394-5818.

SUPPLEMENTARY INFORMATION: None.

Brenda S. Bowen,
Army Federal Register Liaison Officer.

[FR Doc. 04-27570 Filed 12-15-04; 8:45 am]

BILLING CODE 3710-08-M